COMMITTEE FOR PURCHASE FROM PEOPLE WHO ARE BLIND OR SEVERELY DISABLED

Procurement List; Proposed additions and deletions

AGENCY: Committee for Purchase From People Who Are Blind or Severely Disabled.

ACTION: Proposed additions to and deletions from the Procurement List.

SUMMARY: The Committee is proposing to delete product(s) and service(s) previously furnished by such agencies.

DATES: Comments must be received on or before: December 5, 2021.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

8415-01-575-4031—Jacket, Physical Fitness Uniform, Army, Long Sleeve, Universal Camouflage, X-Small/Short

8415-01-575-4295—Jacket, Physical Fitness Uniform, Army, Long Sleeve, Universal Camouflage, X-Small/Regular

8415-01-575-4502—Jacket, Physical Fitness Uniform, Army, Long Sleeve, Universal Camouflage, X-Small/Long

8415-01-575-4046—Jacket, Physical Fitness Uniform, Army, Long Sleeve, Universal Camouflage, Small/Short

8415-01-575-4394—Jacket, Physical Fitness Uniform, Army, Long Sleeve, Universal Camouflage, Small/Regular

8415-01-575-4508—Jacket, Physical Fitness Uniform, Army, Long Sleeve, Universal Camouflage, Small/Long

8415-01-575-4051—Jacket, Physical Fitness Uniform, Army, Long Sleeve, Universal Camouflage, Medium/Short

8415-01-575-4445—Jacket, Physical Fitness Uniform, Army, Long Sleeve, Universal Camouflage, Medium/Regular

8415-01-575-4510—Jacket, Physical Fitness Uniform, Army, Long Sleeve, Universal Camouflage, Medium/Long

8415-01-575-4246—Jacket, Physical Fitness Uniform, Army, Long Sleeve, Universal Camouflage, Large/Short

8415-01-575-4427—Jacket, Physical Fitness Uniform, Army, Long Sleeve, Universal Camouflage, Large/Regular

8415-01-575-4514—Jacket, Physical Fitness Uniform, Army, Long Sleeve, Universal Camouflage, Large/Long

8415-01-575-4254—Jacket, Physical Fitness Uniform, Army, Long Sleeve, Universal Camouflage, X-Large/Short

8415-01-575-4457—Jacket, Physical Fitness Uniform, Army, Long Sleeve, Universal Camouflage, X-Large/Regular

8415-01-575-4515—Jacket, Physical Fitness Uniform, Army, Long Sleeve, Universal Camouflage, X-Large/Long

8415-01-575-4275—Jacket, Physical Fitness Uniform, Army, Long Sleeve, Universal Camouflage, XX-Large/Short

8415-01-575-4434—Jacket, Physical Fitness Uniform, Army, Long Sleeve, Universal Camouflage, XX-Large/Regular

8415-01-575-4518—Jacket, Physical Fitness Uniform, Army, LongS, Universal Camouflage, XX-Large/Long

8415-01-575-4288—Jacket, Physical Fitness Uniform, Army, Long Sleeve, Universal Camouflage, XXX-Large/Short

8415-01-575-4466—Jacket, Physical Fitness Uniform, Army, Long Sleeve, Universal Camouflage, XXX-Large/Regular

8415-01-575-4521—Jacket, Physical Fitness Uniform, Army, Long Sleeve, Universal Camouflage, XXX-Large/Long

Designated Source of Supply: Blind Industries & Services of Maryland, Baltimore, MD

Designated Source of Supply: Winston-Salem Industries for the Blind, Inc, Winston-Salem, NC

Contracting Activity: DLA TROOP SUPPORT, PHILADELPHIA, PA

NSN(s)—Product Name(s): 7510-01-020-2806—Correction Fluid, Water-Based, Type I, White

Designated Source of Supply: The Lighthouse for the Blind, St. Louis, MO

Contracting Activity: GSA/FAS ADMIN SVCS ACQUISITION BR(2, NEW YORK, NY

NSN(s)—Product Name(s):

8415-01-518-4622—Jacket, Physical Training Uniform, USAF, Blue, XXXX-Large/Short

8415-01-518-4623—Jacket, Physical Training Uniform, USAF, Blue, XXXX-Large/Regular

8415-01-518-4647—Jacket, Physical Training Uniform, USAF, Blue, XXXX-Large/Long

Designated Source of Supply: Blind Industries & Services of Maryland, Baltimore, MD

Designated Source of Supply: Winston-Salem Industries for the Blind, Inc, Winston-Salem, NC

Contracting Activity: DLA TROOP SUPPORT, PHILADELPHIA, PA

Service(s)

Service Type: Document Management Service

Mandatory for: US Army, Evans Army Community Hospital, Fort Carson, CO, 1650 Cochrane Circle, Fort Carson, CO

Designated Source of Supply: Goodwill Industrial Services Corporation, Colorado Springs, CO

Contracting Activity: DEPT OF THE ARMY, W6QM MICC-FT CARSON

Service Type: Document Destruction Service

Mandatory for: Social Security ODAR, Falls Church, VA (offsite: 9104 Red Branch Road, Columbia, MD), One Skyline Tower, 5107 Leesburg Pike, Falls Church, VA

Contracting Activity: SOCIAL SECURITY ADMINISTRATION, SOCIAL SECURITY ADMINISTRATION

Michael R. Jurkowski,
Acting Director, PL Operations.

[FR Doc. 2021-24255 Filed 11-4-21; 8:45 am]

BILLING CODE 6353-01-P